EXPORT-IMPORT BANK OF THE U.S.

[Public Notice 2010-0036]

Agency Information Collection Activities: Comment Request

AGENCY: Export-Import Bank of the U.S.

ACTION: Submission for OMB Review and Comments Request.

Form Title: U.S. Beneficiary Certificate and Agreement EIB 92-37.

SUMMARY: The Export-Import Bank of the United States (Ex-Im Bank), as a part of its continuing effort to reduce paperwork and respondent burden, invites the general public and other Federal Agencies to comment on the proposed information collection, as required by the Paperwork Reduction Act of 1995. Our customers will be able to submit this form on paper or electronically.

This form is used when the beneficiary of the letter of credit, the recipient of a funding under a direct buyer credit loan, or the recipient of payment under a reimbursement loan or a payment under a supplier credit is not the exporter. If the need to use this form arises, the insured holds it in the event of a claim, at which time it would submit it to Export Import Bank along with all other claim documentation. The form provides Export Import Bank staff with the information necessary to make a determination of the eligibility of the claimed export transaction for coverage.

DATES: Comments should be received on or before (60 days after publication) to be assured of consideration.

ADDRESSES: Comments maybe submitted through http://www.Regulations.Gov or mailed to Arnold Chow, Export Import Bank of the United States, 811 Vermont Ave., NW., Washington, DC 20571.

SUPPLEMENTARY INFORMATION: Titles and Form Number: EIB 92-37 U.S. Beneficiary Certificate and Agreement.

OMB Number: 3048-0022.

Type of Review: Regular.

Need and Use: If the need to use this form arises, the insured holds it in the event of a claim, at which time it would submit it to Export Import Bank along with all other claim documentation.

Affected Public: This form affects entities involved in the export of U.S. goods and services.

Annual Number of Respondents: 10.

Estimated Time per Respondent: 1 hour.

Government Annual Burden Hours: 2.5 hours.

Frequency of Reporting or Use: Once.

Sharon A. Whitt,
Agency Clearance Officer.

[FR Doc. 2010-23468 Filed 9-20-10; 8:45 am]

BILLING CODE 6690-01-P